DEPARTMENT OF COMMERCE

International Trade Administration

United States and Foreign Commercial Service; United States Commercial Center in Shanghai. Notice of Availability of Office Space on a User-Fee Basis for the Period May 2004 to June 2005

AGENCY: United States and Foreign Commercial Service (the US&FCS).

ACTION: Notice.

Authority: 15 U.S.C. 4723a.

SUMMARY: The US&FCS operates a United States Commercial Center in Shanghai, China (the Shanghai USCC). The US&FCS encourages U.S. Government agencies, U.S. state and local agencies, and U.S. private organizations which seek to promote U.S. exports, especially U.S. Market Development Cooperator entities, to inquire about available office space at the Shanghai USCC for the period May 2004 to June 2005.

DATES: Submit inquiries on or before April 19, 2004.

ADDRESSES: Send inquiries to the attention of Mr. Alain de Sarran, or of Ms. Ann Bacher, U.S. Department of Commerce, by e-mail: Alain.DeSarran@mail.doc.gov or Ann.Bacher@mail.doc.gov, or by facsimile: (202) 501-6165.

FOR FURTHER INFORMATION CONTACT: Mr. Alain de Sarran, (202) 482-3971.

SUPPLEMENTARY INFORMATION: The US&FCS operates a United States Commercial Center in Shanghai, China, located in the Portman Center, a modern facility in one of Shanghai's main business districts. The US&FCS is authorized to provide business facilities, including office space, in the Shanghai USCC on a cost-recovery basis to promote U.S. exports. Cost recovery is achieved through execution of Memoranda of Understanding containing programmatic and space usage terms between the US&FCS and co-locating entities. The average office size in the Shanghai USCC is approximately 20 square meters. The US&FCS encourages U.S. Government agencies, U.S. state and local agencies, and U.S. private organizations which promote U.S. exports, especially U.S. Market Development Cooperator entities, to inquire about available office space at the Shanghai USCC for the period May 2004 to June 2005.

Carlos Poza,
Assistant Secretary and Director General (acting), United States and Foreign Commercial Service.

[FR Doc. 04-8408 Filed 4-13-04; 8:45 am]

BILLING CODE 3510-DR-M